DEPARTMENT OF COMMERCE

National Oceanic and Atmospheric Administration

Agency Information Collection Activities; Submission to the Office of Management and Budget (OMB) for Review and Approval; Comment Request; Evaluations of Coastal Zone Management Act Programs: State Coastal Management Programs and National Estuarine Research Reserves

AGENCY: National Oceanic and Atmospheric Administration (NOAA), Commerce.

ACTION: Notice of information collection, request for comment.

SUMMARY: The Department of Commerce, in accordance with the Paperwork Reduction Act of 1995 (PRA), invites the public and other Federal agencies to comment on proposed and continuing information collections, which helps us assess the impact of our information-collection requirements and minimize the public's reporting burden. The purpose of this notice is to allow for 60 days of public comment preceding submission of the collection to OMB.

DATES: To ensure consideration, comments regarding this proposed information collection must be received on or before March 13, 2023.

ADDRESSES: Interested persons are invited to submit written comments to Adrienne Thomas, NOAA PRA Officer, at NOAA.PRA@noaa.gov. Please reference OMB Control Number 0648-0661 in the subject line of your comments. Do not submit confidential business information or otherwise sensitive or protected information.

FOR FURTHER INFORMATION CONTACT: Requests for additional information or specific questions related to collection activities should be directed to Michael Migliori, lead evaluator, NOS Office of Coastal Management, 1305 East West Hwy., Bldg. SSMC4, Silver Spring, MD 20910, (443) 332-8936, or Michael.Migliori@noaa.gov.

SUPPLEMENTARY INFORMATION:

I. Abstract

This request is for revision and extension of a currently approved information collection. A few questions will be rewritten to improve the usefulness of information collected. A new question is proposed for inclusion that will collect information from Coastal Zone Management Act programs about efforts in diversity, inclusion, equity, and accessibility.

The Coastal Zone Management Act of 1972, as amended (CZMA; 16 U.S.C. 1451 et seq.) requires that state coastal management programs and national estuarine research reserves developed in accordance with the CZMA and approved by the Secretary of Commerce be evaluated periodically. This request is to collect information to accomplish those evaluations. NOAA's Office for Coastal Management conducts periodic evaluations of the 34 coastal management programs and 30 research reserves and produces written findings for each evaluation. The Office for Coastal Management has access to documents submitted in cooperative agreement applications, performance reports, and certain documentation required by the CZMA and implementing regulations. However, additional information from each coastal management program and research reserve, as well as information from the program and reserve partners and stakeholders with whom each works, is necessary to evaluate against statutory and regulatory requirements. Different information collection subsets are necessary for (1) coastal management programs, (2) their partners and stakeholders, (3) research reserves, and (4) their partners and stakeholders.

As part of this submission, a few questions will be modified to clarify the information that should be provided as part of the information requests and questionnaires sent to the coastal program and reserve managers. One new question about efforts in diversity, inclusion, equity, and accessibility will be included for coastal program and reserve managers. A few questions will be revised to clarify and improve the usefulness of responses for the partners and stakeholders' survey.

Given the addition of a designated research reserve since the last renewal of this information collection and the anticipated designation of additional reserves in the coming years, and an increase in Office for Coastal Management staff capacity to conduct evaluations, the number of CZMA programs to be evaluated, on average, in the next three years will increase from 11 to 12 programs per year. This increase in the number of programs to be evaluated will also increase the number of partner and stakeholder respondents to this information collection.

II. Method of Collection

Coastal program and reserve manager respondents will receive information requests and questionnaires via email, and submittals will be made via email. Partners and stakeholders of coastal management programs and of reserves will receive a link to a web-based survey tool and respond through the survey tool.

III. Data

OMB Control Number: 0648-0661.

Form Number(s): None.

Type of Review: Regular submission (revision and extension of a current information collection).

Affected Public: Business or other for-profit organizations; not-for-profit institutions; state, local, or tribal government; federal government.

Estimated Number of Respondents: 288.

Estimated Time per Response: 72 hours per CZMA program manager's evaluation; 15 minutes per partner/stakeholder response.

Estimated Total Annual Burden Hours: 933.

Estimated Total Annual Cost to Public: $0 in recordkeeping/reporting costs.

Respondent's Obligation: Mandatory for CZMA programs; voluntary for program partners and stakeholders.

Legal Authority: Section 312 of the Coastal Zone Management Act, as amended (16 U.S.C. 1458).

IV. Request for Comments

We are soliciting public comments to permit the Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personally identifiable information in your comment, you should be aware that your entire comment—including your personally identifiable information—may be made publicly available at any time. While you may ask us in your comment to withhold your personally identifiable information from public review, we cannot guarantee that we will be able to do so.

Sheleen Dumas,
Department PRA Clearance Officer, Office of the Chief Information Officer, Commerce Department.

[FR Doc. 2023-00463 Filed 1-11-23; 8:45 am]

BILLING CODE 3510-JE-P